ENVIRONMENTAL PROTECTION AGENCY

40 CFR Part 52

[EPA-R03-OAR-2009-0606; FRL-9186-6]

Approval and Promulgation of Air Quality Implementation Plans; Delaware; Administrative and Non-Substantive Amendments to Existing Delaware SIP Regulations

AGENCY: Environmental Protection Agency (EPA).

ACTION: Direct final rule.

SUMMARY: EPA is taking direct final action to approve revisions to the Delaware State Implementation Plan (SIP). The revisions streamline, renumber and reformat the Delaware Regulations for the Control of Air Pollution which EPA has approved as part of the Delaware SIP. This SIP vision is administrative in nature; there are no substantive changes. EPA is approving these revisions to Delaware SIP regulations in accordance with the requirements of the Clean Air Act (CAA).

DATES: This rule is effective on October 12, 2010 without further notice, unless EPA receives adverse written comment by September 10, 2010. If EPA receives such comments, it will publish a timely withdrawal of the direct final rule in the Federal Register and inform the public that the rule will not take effect.

ADDRESSES: Submit your comments, identified by Docket ID Number EPA-R03-OAR-2009-0606 by one of the following methods:

A. http://www.regulations.gov. Follow the on-line instructions for submitting comments.

B. E-mail: frankford.harold@epa.gov.

C. Mail: EPA-R03-OAR-2009-0606, Harold A. Frankford, Air Protection Division, Mailcode 3AP00, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2009-0606. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Delaware Department of Natural Resources and Environmental Control, 89 Kings Highway, P.O. Box 1401, Dover, Delaware 19903.

FOR FURTHER INFORMATION CONTACT: Harold A. Frankford, (215) 814-2108, or by e-mail at frankford.harold@epa.gov.

SUPPLEMENTARY INFORMATION:

I. Background

On June 15, 2009, the State of Delaware submitted a formal revision to its State Implementation Plan (SIP). The SIP revision consists of administrative and non-substantive amendments to 32 of the SIP approved Delaware air pollution control regulations. In its SIP revision submittal, Delaware explains that under Title 29, Chapter 101 of the Delaware Codes (29 Del. C., Ch 101), regulatory agencies in Delaware are required to develop and adopt regulations, and publish the regulations in Delaware Register of Regulations. The State Registrar's Office under Division of Research of the General Assembly has developed guidelines and drafting manuals for Delaware regulations. Delaware issued the latest edition of drafting and style manual, entitled “Delaware Manual for Drafting Regulations” in March 2006 (“the 2006 Manual”). Since then, EPA has approved several Delaware SIP regulations in the manual-compliant format. However, a majority of the Delaware SIP regulations have not been updated.

II. Summary of SIP Revision

The purpose of this SIP revision is to revise all Delaware SIP regulations so that they are consistent with the format prescribed in the 2006 Manual. In addition, Delaware has made some non-substantive changes and corrections of errors exclusively for this SIP revision:

• Administrative or editorial changes made under the administrative authority granted to Delaware Registrar's Office by 29 Del. C., Ch 1134 and applicable to all Delaware regulations for consistency purposes. Therefore, all Delaware air regulations, both existing ones and future ones, shall follow this format.

• Non-substantive changes made for clarification and consistency purposes and which do not alter or amend the intent or meaning of the subject regulation.

• Editorial changes, including correction of errors due to typos or misprints when a regulation was developed or revised to its current version.

A. SIP Regulations Revised in This SIP Revision

The 32 regulations which Delaware has submitted administrative changes to EPA in this SIP revision are:

• Regulation 1 “Definitions and Administrative Principles”;

• Regulation 1102* “Permits”;

• Regulation 3 “Ambient Air Quality Standards”;

• Regulation 4 “Particulate Emissions From Fuel Burning Equipment”;

• Regulation 5 “Particulate Emissions From Industrial Process Operations”;

• Regulation 6 “Particulate Emissions From Construction and Materials Handling”;

• Regulation 7 “Particulate Emissions From Incineration”;

• Regulation 8 “Sulfur Dioxide Emissions From Fuel Burning Equipment”;

• Regulation 9 “Emissions of Sulfur Compounds From Industrial Operations”;

• Regulation 10 “Control of Sulfur Dioxide Emissions—Kent and Sussex Counties”;

• Regulation 11 “Carbon Monoxide Emissions From Industrial Process Operations New Castle County”;

• Regulation 12 “Control of Nitrogen Oxide Emissions”;

• Regulation 1113* “Open Burning”;

• Regulation 14 “Visible Emissions”;

• Regulation 15 “Air Pollution Alert and Emergency Plan”;

• Regulation 16 “Sources Having an Interstate Air Pollution Potential”;

• Regulation 17 “Source Monitoring, Recordkeeping and Reporting”;

• Regulation 23 “Standards of Performance for Steel Plants: Electric Arc Furnaces”;

• Regulation 1124* “Control of Volatile Organic Compound Emissions”;

• Regulation 1125* “Requirements for Preconstruction Review” (Sections 1, 2 and 3);

• Regulation 26 “Motor Vehicle Emissions Inspection Program”

• Regulation 27 “Stack Heights”;

• Regulation 1132* “Transportation Conformity”;

• Regulation 35 “Conformity of General Federal Actions to the State Implementation Plans”;

• Regulation 39 “Nitrogen Oxides (NOX) Budget Trading Program”;

• Regulation 40 “Delaware's National Low Emission Vehicle (NLEV) Regulation”;

• Regulation 1141* “Limiting Emissions of Volatile Organic Compounds From Consumer and Commercial Products”;

• Regulation 1142* “Specific Emission Control Requirements (Section 1)”;

• Regulation 1144* “Control of Stationary Generator Emissions”;

• Regulation 1145* “Excessive Idling of Heavy Duty Vehicles”;

• Regulation 1146* “Electric Generating Unit (EGU) Multi-Pollutant Regulation”;

• Regulation 1148* “Control of Stationary Combustion Turbine Electric Generating Unit Emissions”.

The regulations marked with an asterisk (*) are SIP regulations (or a section or sections therein) which Delaware has revised after the issuance of the 2006 drafting manual.

B. SIP Regulations Not Affected by This Revision

Delaware has not submitted the following SIP regulations or sections in this SIP revision:

• Regulation 31 “Low Enhanced Inspection and Maintenance Program”;

• Regulation 37 “NOX Budget Program”;

Delaware did not include Regulation 31 because it is currently under substantive revision, and did not include Regulation 37 because it is no longer State enforceable. In addition, on June 10, 2010, Delaware withdrew the following regulations from this SIP submittal, as they are not currently part of the Delaware SIP: Regulation 1101, Section 2.0—those definitions not associated with SIP-approved regulations; Regulation 1103, Sections 7.0 and 9.0; Regulation 7, Section 2.0; Regulation 9, Section 2.2; and all regulatory provisions in Regulation 1146 governing the control of mercury emissions.

C. Summary of Administrative Changes

The following paragraphs summarize the global administrative amendments to Delaware's regulations that are part of this SIP revision:

1. Font Face and Size—All State regulations are converted to a standard font size. Such change does not alter any meaning of the subject regulations in any aspect.

2. Regulation Title Coding and Numbering—All revised regulations use a bold-face text for their titles.

3. Format of Definitions—All defined terms are highlighted in bold type, with the expression “means the” inserted at the beginning of each definition.

4. Section and Subsection Numbering—Two changes are made with respect to sections in a regulation under this SIP revision: (1) All prefixes of “Section-” in section title lines are deleted; (2) Sections are numbered using a consistent format of Arabic numeral “#.0”.

A majority of the current SIP regulations have subsections of various levels, and use different symbols for subsections, such as lower-case letters (a, b, * * * ), Roman numbers (i, ii, * * *), Arabic numbers in parenthesis [(1), (2), * * *], upper-case letters (A, B, * * *), and paired lower-case letters (aa, bb, * * *). All those subsection symbols in the current Delaware Air Quality Management (AQM) regulations are replaced by Arabic numbers under this SIP revision.

5. Citations in Regulations—All Delaware AQM regulations are to be cited as Delaware Administration Code by title and regulation number. Therefore, citations of another regulation are revised to a standard format.

6. Other Changes—The following changes are also made to the State AQM regulations submitted under this SIP revision, with strikeouts representing deletions and underlines for additions:

a. Changing “and/or” to “or”.

b. Changing “word(s)” to “word or words”.

c. Spelling out numbers from 1 to 9, except those followed by specifying symbols such as %, °C, °F, and those used for special terms such as “the 1-hour ozone standard.” However, numerals between 1.0 and 9.0 are not spelled out, due to the precision meaning held by the decimal place.

d. Using Arabic numbers for 10 and greater, except when used at the beginning of a sentence.

e. Changing word “percent” following a numeral to “%”.

f. Changing “deg C and deg F” to “°C and °F”, respectively.

g. Changing dates in the text, for example, from “12/02/94” to “December 2, 1994.”

D. Non-Substantive Changes

1. Addition and Deletion of Words

a. Additions—In the current AQM regulations, sections and subsections may be referenced frequently in the regulation itself. In addition, the Federal Clean Air Act (the Act) may be cited frequently as well. To ensure precise citations and references, the terms “of (or in) this regulation” and “of (or in) the Act” are added wherever they seem necessary and adequate.

b. Deletions—In the current AQM regulations, terms such “section, subsection, part, subpart, paragraph, and subparagraph” are used extensively, but not consistently and properly. Under this SIP revision, the terms “section, subsection, part, subpart, paragraph, and subparagraph” are no longer used in front of section or subsection numbers.

c. Deleting Specific Section and Subsection Numbers—There are cases in the current AQM regulations where there is only one subsection in a section. This single subsection is no longer numbered.

2. Changing Italic Font Style to Regular Style

The italic font is no longer used in Delaware's regulations.

3. Renumbering Tables and Equations

A standard format of “X-Y” is adopted for all tables and equations, with X denoting a section and Y denoting table or equation order in that section.

4. Dates Associated With Section Titles

Historically, all Delaware AQM regulations have placed a date immediately in front of or after a section title, indicating the date when the subject section was adopted in its latest version. Under this SIP revision, these dates are formatted as “mm/dd/yyyy.”

5. Appendices

a. Numbering Appendices—All appendices in Regulation 24 are renumbered with un-quoted capital letters under this SIP revision, without strikeouts and underlines. In addition, all appendices of AQM regulations are identified using bold-face (i.e., Appendix) to distinguish them from appendixes of other documents cited in the SIP regulations.

b. Footnotes in Appendices—According to Delaware's 2006 Manual, footnotes should be presented at the end of a regulation. For appendices, however, footnotes are placed at the end of each appendix under this SIP revision. For example, footnotes used in an appendix of Regulation 24 are presented at the end of the subject appendix, instead of at the far end of the entire regulation.

c. References in Appendices—Under this SIP revision, references in an appendix are no longer denoted by superscripts. Instead, a directing text in parenthesis “(see # of this appendix)” is used, where “#” is the order number of the reference listed at the end of the appendix.

6. Other Changes

Other non-substantive changes are made, mainly for consistency and clarification purposes.

E. Correction of Typographical and Global Errors

Examples of global errors include:

• Correcting “cm3” to “cm³”;

• Correcting “the 31st” to “the 31st”.

III. Final Action

EPA is approving the described administrative and non-substantive amendments to the SIP approved Delaware air pollution control regulations as a revision of the Delaware SIP. As a result of this approval action, the format of Federally enforceable SIP regulations will be consistent with the format of the current Delaware AQM regulations. EPA's approval action does not revise the following sections of Regulations 1113, 1132, 1141, 1144, 1146, and 1148, as previous EPA SIP approvals had already incorporated these administrative and non-substantive changes:

• Regulation 1113, Sections 1.0, 2.0, 5.0 and 7.0.

• Regulation 1132, Section 1.0.

• Regulation 1141, Section 2.0.

• Regulation 1144, Sections 3.0, 8.0, and 9.0.

• Regulation 1146, Section 2.0, and Table 5-1.

• Regulation 1148, Sections 1.0 and 6.0.

Prior to Delaware's June 15, 2009 SIP revision submittal, Delaware submitted substantive amendments to Regulation 1102, Appendix A. EPA's action on that SIP revision is still pending. EPA will address the State's administrative revisions associated with these amendments concurrently with our review of the substantive amendments.

EPA is publishing this rule without prior proposal because the Agency views this as a noncontroversial amendment and anticipates no adverse comment. However, in the “Proposed Rules” section of today's Federal Register, EPA is publishing a separate document that will serve as the proposal to approve the SIP revision if adverse comments are filed. This rule will be effective on October 12, 2010 without further notice unless EPA receives adverse comment by September 10, 2010. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

IV. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by October 12, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action pertaining to administrative and non-substantive changes to Delaware's existing SIP-approved regulations may not be challenged later in proceedings to enforce its requirements. (See section 307(b)(2).)

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: July 26, 2010.
Shawn M. Garvin,
Regional Administrator, Region III.

40 CFR part 52 is amended as follows:

PART 52—[AMENDED]

1. The authority for citation for part 52 continues to read as follows:

Authority: 42.U.S.C. 7401 et seq.

Subpart I—Delaware

2. In § 52.420, the table in paragraph (c) is revised to read as follows:

§ 52.420 Identification of plan.

* * * * *

(c) * * *

EPA-Approved Regulations in the Delaware SIP
State regulation (7 DNREC 1100) | Title/subject | State effective date | EPA approval date | Additional explanation
1101 Definitions and Administrative Principles
Section 1.0 | General Provisions | 9/11/08 | 8/11/10 [Insert page number where the document begins]
Section 2.0 | Definitions | 9/11/08 | 8/11/10 [Insert page number where the document begins] | Revised format for all definitions which EPA has previously approved as part of the SIP.
Section 3.0 | Administrative Principles | 9/11/08 | 8/11/10 [Insert page number where the document begins]
Section 4.0 | Abbreviations | 9/11/08 | 8/11/10 [Insert page number where the document begins]
1102 Permits
Section 1.0 | General Provisions | 9/11/08 | 8/11/10 [Insert page number where the document begins]
Section 2.0 | Applicability | 9/11/08 | 8/11/10 [Insert page number where the document begins]
Section 3.0 | Application/Registration Prepared by Interested Parties | 9/11/08 | 8/11/10 [Insert page number where the document begins]
Section 4.0 | Cancellation of Construction Permits | 9/11/08 | 8/11/10 [Insert page number where the document begins]
Section 5.0 | Action on Applications | 9/11/08 | 8/11/10 [Insert page number where the document begins]
Section 6.0 | Denial, Suspension or Revocation of Operating Permits | 9/11/08 | 8/11/10 [Insert page number where the document begins]
Section 7.0 | Transfer of Permit/Registration Prohibited | 9/11/08 | 8/11/10 [Insert page number where the document begins]
Section 8.0 | Availability of Permit/Registration | 9/11/08 | 8/11/10 [Insert page number where the document begins]
Section 9.0 | Registration Submittal | 9/11/08 | 8/11/10 [Insert page number where the document begins]
Section 10.0 | Source Category Permit Application | 9/11/08 | 8/11/10 [Insert page number where the document begins]
Section 11.0 | Permit Application | 9/11/08 | 8/11/10 [Insert page number where the document begins]
Section 12.0 | Public Participation | 9/11/08 | 8/11/10 [Insert page number where the document begins]
Section 13.0 | Department Records | 9/11/08 | 8/11/10 [Insert page number where the document begins]
Appendix A, paragraphs 1.0 through 31.0) | [List of Permit Exemptions] | 9/11/08 | 8/11/10 [Insert page number where the document begins]
1103 Ambient Air Quality Standards
Section 1.0 | General Provisions | 9/11/08 | 8/11/10 [Insert page number where the document begins]
Section 2.0 | General Restrictions | 9/11/08 | 8/11/10 [Insert page number where the document begins]
Section 3.0 | Suspended Particulates | 9/11/08 | 8/11/10 [Insert page number where the document begins]
Section 4.0 | Sulfur Dioxide | 9/11/08 | 8/11/10 [Insert page number where the document begins]
Section 5.0 | Carbon Monoxide | 9/11/08 | 8/11/10 [Insert page number where the document begins]
Section 6.0 | Ozone | 9/11/08 | 8/11/10 [Insert page number where the document begins]
Section 8.0 | Nitrogen Dioxide | 9/11/08 | 8/11/10 [Insert page number where the document begins]
Section 10.0 | Lead | 9/11/08 | 8/11/10 [Insert page number where the document begins]
Section 11.0 | PM10 and PM2.5 Particulates | 9/11/08 | 8/11/10 [Insert page number where the document begins]
1104 Particulate Emissions from Fuel Burning Equipment
Section 1.0 | General Provisions | 9/11/08 | 8/11/10 [Insert page number where the document begins]
Section 2.0 | Emission Limits | 9/11/08 | 8/11/10 [Insert page number where the document begins]
1105 Particulate Emissions from Industrial Process Operations
Section 1.0 | General Provisions | 9/11/08 | 8/11/10 [Insert page number where the document begins]
Section 2.0 | General Restrictions | 9/11/08 | 8/11/10 [Insert page number where the document begins]
Section 3.0 | Restrictions on Hot Mix Asphalt Batching Operations | 9/11/08 | 8/11/10 [Insert page number where the document begins]
Section 4.0 | Restrictions on Secondary Metal Operations | 9/11/08 | 8/11/10 [Insert page number where the document begins]
Section 5.0 | Restrictions on Petroleum Refining Operations | 9/11/08 | 8/11/10 [Insert page number where the document begins]
Section 6.0 | Restrictions on Prill Tower Operations | 9/11/08 | 8/11/10 [Insert page number where the document begins]
Section 7.0 | Control of Potentially Hazardous Particulate Matter | 9/11/08 | 8/11/10 [Insert page number where the document begins]
1106 Particulate Emissions from Construction and Materials Handling
Section 1.0 | General Provisions | 9/11/08 | 8/11/10 [Insert page number where the document begins]
Section 2.0 | Demolition | 9/11/08 | 8/11/10 [Insert page number where the document begins]
Section 3.0 | Grading, Land Clearing, Excavation and Use of Non-Paved Roads | 9/11/08 | 8/11/10 [Insert page number where the document begins]
Section 4.0 | Material Movement | 9/11/08 | 8/11/10 [Insert page number where the document begins]
Section 5.0 | Sandblasting | 9/11/08 | 8/11/10 [Insert page number where the document begins]
Section 6.0 | Material Storage | 9/11/08 | 8/11/10 [Insert page number where the document begins]
1107 Particulate Emissions from Incineration
Section 1.0 | General Provisions | 9/11/08 | 8/11/10 [Insert page number where the document begins]
Section 2 | Restrictions | 12/8/83 | 10/3/84 49 FR 39061 | Provisions were revised 10/13/89 by State, but not submitted to EPA as SIP revisions.
1108 Sulfur Dioxide Emissions from Fuel Burning Equipment
Section 1.0 | General Provisions | 9/11/08 | 8/11/10 [Insert page number where the document begins]
Section 2.0 | Limit on Sulfur Content of Fuel | 9/11/08 | 8/11/10 [Insert page number where the document begins]
Section 3.0 | Emissions Control in Lieu of Sulfur Content Limits of 2.0 of this Regulation | 9/11/08 | 8/11/10 [Insert page number where the document begins]
1109 Emissions of Sulfur Compounds from Industrial Operations
Section 1.0 | General Provisions | 9/11/08 | 8/11/10 [Insert page number where the document begins]
Section 2.0 | Restrictions on Sulfuric Acid Manufacturing Operations | 9/11/08 | 8/11/10 [Insert page number where the document begins] | Section 2.2 (State effective date: 9/26/1980) is Federally enforceable as a Section 111(d) plan and codified at 40 CFR 62.1875.
Section 3.0 | Restriction on Sulfur Recovery Operations | 9/11/08 | 8/11/10 [Insert page number where the document begins]
Section 4.0 | Stack Height Requirements | 9/11/08 | 8/11/10 [Insert page number where the document begins]
1110 Control of Sulfur Dioxide Emissions—Kent and Sussex Counties
Section 1.0 | Requirements for Existing Sources of Sulfur Dioxide | 9/11/08 | 8/11/10 [Insert page number where the document begins]
Section 2.0 | Requirements for New Sources of Sulfur Dioxide | 9/11/08 | 8/11/10 [Insert page number where the document begins]
1111 Carbon Monoxide Emissions from Industrial Process Operations—New Castle County
Section 1.0 | General Provisions | 9/11/08 | 8/11/10 [Insert page number where the document begins]
Section 2.0 | Restrictions on Petroleum Refining Operations | 9/11/08 | 8/11/10 [Insert page number where the document begins]
1112 Control of Nitrogen Oxide Emissions
Section 1.0 | Applicability | 9/11/08 | 8/11/10 [Insert page number where the document begins]
Section 2.0 | Definitions | 9/11/08 | 8/11/10 [Insert page number where the document begins]
Section 3.0 | Standards | 9/11/08 | 8/11/10 [Insert page number where the document begins]
Section 4.0 | Exemptions | 9/11/08 | 8/11/10 [Insert page number where the document begins]
Section 5.0 | Alternative and Equivalent RACT Determination | 9/11/08 | 8/11/10 [Insert page number where the document begins]
Section 6.0 | RACT Proposals | 9/11/08 | 8/11/10 [Insert page number where the document begins]
Section 7.0 | Compliance, Certification, Recordkeeping, and Reporting Requirements | 9/11/08 | 8/11/10 [Insert page number where the document begins]
1113 Open Burning
Section 1.0 | Purpose | 4/11/07 | 9/20/07 72 FR 53686
Section 2.0 | Applicability | 4/11/07 | 9/20/07 72 FR 53686
Section 3.0 | Definitions | 9/11/08 | 8/11/10 [Insert page number where the document begins]
Section 4.0 | Prohibitions and Related Provisions | 9/11/08 | 8/11/10 [Insert page number where the document begins]
Section 5.0 | Season and Time Restrictions | 9/11/08 | 8/11/10 [Insert page number where the document begins]
Section 6.0 | Allowable Open Burning | 9/11/08 | 8/11/10 [Insert page number where the document begins]
Section 7.0 | Exemptions | 4/11/07 | 9/20/07 72 FR 53686
1114 Visible Emissions
Section 1.0 | General Provisions | 9/11/08 | 8/11/10 [Insert page number where the document begins]
Section 2.0 | Requirements | 9/11/08 | 8/11/10 [Insert page number where the document begins]
Section 3.0 | Alternate Opacity Requirements | 9/11/08 | 8/11/10 [Insert page number where the document begins]
Section 4.0 | Compliance with Opacity Standards | 9/11/08 | 8/11/10 [Insert page number where the document begins]
1115 Air Pollution Alert and Emergency Plan
Section 1.0 | General Provisions | 9/11/08 | 8/11/10 [Insert page number where the document begins]
Section 2.0 | Stages and Criteria | 9/11/08 | 8/11/10 [Insert page number where the document begins]
Section 3.0 | Required Actions | 9/11/08 | 8/11/10 [Insert page number where the document begins]
Section 4.0 | Standby Plans | 9/11/08 | 8/11/10 [Insert page number where the document begins]
1116 Sources Having an Interstate Air Pollution Potential
Section 1.0 | General Provisions | 9/11/08 | 8/11/10 [Insert page number where the document begins]
Section 2.0 | Limitations | 9/11/08 | 8/11/10 [Insert page number where the document begins]
Section 3.0 | Requirements | 9/11/08 | 8/11/10 [Insert page number where the document begins]
1117 Source Monitoring, Recordkeeping and Reporting
Section 1.0 | Definitions and Administrative Principles | 9/11/08 | 8/11/10 [Insert page number where the document begins]
Section 2.0 | Sampling and Monitoring | 9/11/08 | 8/11/10 [Insert page number where the document begins]
Section 3.0 | Minimum Emission Monitoring Requirements for Existing Sources | 9/11/08 | 8/11/10 [Insert page number where the document begins]
Section 4.0 | Performance Specifications | 9/11/08 | 8/11/10 [Insert page number where the document begins]
Section 5.0 | Minimum Data Requirements | 9/11/08 | 8/11/10 [Insert page number where the document begins]
Section 6.0 | Data Reduction | 9/11/08 | 8/11/10 [Insert page number where the document begins]
Section 7.0 | Emission Statement | 9/11/08 | 8/11/10 [Insert page number where the document begins]
1123 Standards of Performance for Steel Plants: Electric Arc Furnaces
Section 1.0 | Applicability | 9/11/08 | 8/11/10 [Insert page number where the document begins]
Section 2.0 | Definitions | 9/11/08 | 8/11/10 [Insert page number where the document begins]
Section 3.0 | Standard for Particulate Matter | 9/11/08 | 8/11/10 [Insert page number where the document begins]
Section 4.0 | Monitoring of Operations | 9/11/08 | 8/11/10 [Insert page number where the document begins]
Section 5.0 | Test Methods and Procedures | 9/11/08 | 8/11/10 [Insert page number where the document begins]
1124 Control of Volatile Organic Compound Emissions
Section 1.0 | General Provisions | 9/11/08 | 8/11/10 [Insert page number where the document begins]
Section 2.0 | Definitions | 9/11/08 | 8/11/10 [Insert page number where the document begins]
Section 3.0 | Applicability | 9/11/08 | 8/11/10 [Insert page number where the document begins]
Section 4.0 | Compliance Certification, Recordkeeping, and Reporting Requirements for Coating Sources | 9/11/08 | 8/11/10 [Insert page number where the document begins]
Section 5.0 | Compliance Certification, Recordkeeping, and Reporting Requirements for Non-Coating Sources | 9/11/08 | 8/11/10 [Insert page number where the document begins]
Section 6.0 | General Recordkeeping | 9/11/08 | 8/11/10 [Insert page number where the document begins]
Section 7.0 | Circumvention | 9/11/08 | 8/11/10 [Insert page number where the document begins]
Section 8.0 | Handling, Storage, and Disposal of Volatile Organic Compounds (VOCs) | 9/11/08 | 8/11/10 [Insert page number where the document begins]
Section 9.0 | Compliance, Permits, Enforceability | 9/11/08 | 8/11/10 [Insert page number where the document begins]
Section 10.0 | Aerospace Coatings | 9/11/08 | 8/11/10 [Insert page number where the document begins]
Section 11.0 | Mobile Equipment Repair and Refinishing | 9/11/08 | 8/11/10 [Insert page number where the document begins]
Section 12.0 | Surface Coating of Plastic Parts | 9/11/08 | 8/11/10 [Insert page number where the document begins]
Section 13.0 | Automobile and Light-Duty Truck Coating Operations | 9/11/08 | 8/11/10 [Insert page number where the document begins]
Section 14.0 | Can Coating | 9/11/08 | 8/11/10 [Insert page number where the document begins]
Section 15.0 | Coil Coating | 9/11/08 | 8/11/10 [Insert page number where the document begins]
Section 16.0 | Paper Coating | 9/11/08 | 8/11/10 [Insert page number where the document begins]
Section 17.0 | Fabric Coating | 9/11/08 | 8/11/10 [Insert page number where the document begins]
Section 18.0 | Vinyl Coating | 9/11/08 | 8/11/10 [Insert page number where the document begins]
Section 19.0 | Coating of Metal Furniture | 9/11/08 | 8/11/10 [Insert page number where the document begins]
Section 20.0 | Coating of Large Appliances | 9/11/08 | 8/11/10 [Insert page number where the document begins]
Section 21.0 | Coating of Magnet Wire | 9/11/08 | 8/11/10 [Insert page number where the document begins]
Section 22.0 | Coating of Miscellaneous Metal Parts | 9/11/08 | 8/11/10 [Insert page number where the document begins]
Section 23.0 | Coating of Flat Wood Panelling | 9/11/08 | 8/11/10 [Insert page number where the document begins]
Section 24.0 | Bulk Gasoline Plants | 9/11/08 | 8/11/10 [Insert page number where the document begins]
Section 25.0 | Bulk Gasoline Terminals | 9/11/08 | 8/11/10 [Insert page number where the document begins]
Section 26.0 | Gasoline Dispensing Facility—Stage I Vapor Recovery | 9/11/08 | 8/11/10 [Insert page number where the document begins]
Section 27.0 | Gasoline Tank Trucks | 9/11/08 | 8/11/10 [Insert page number where the document begins]
Section 28.0 | Petroleum Refinery Sources | 9/11/08 | 8/11/10 [Insert page number where the document begins]
Section 29.0 | Leaks from Petroleum Refinery Equipment | 9/11/08 | 8/11/10 [Insert page number where the document begins]
Section 30.0 | Petroleum Liquid Storage in External Floating Roof Tanks | 9/11/08 | 8/11/10 [Insert page number where the document begins]
Section 31.0 | Petroleum Liquid Storage in Fixed Roof Tanks | 9/11/08 | 8/11/10 [Insert page number where the document begins]
Section 32.0 | Leaks from Natural Gas/Gasoline Processing Equipment | 9/11/08 | 8/11/10 [Insert page number where the document begins]
Section 33.0 | Solvent Metal Cleaning and Drying | 9/11/08 | 8/11/10 [Insert page number where the document begins]
Section 34.0 | Cutback and Emulsified Asphalt | 9/11/08 | 8/11/10 [Insert page number where the document begins]
Section 35.0 | Manufacture of Synthesized Pharmaceutical Products | 9/11/08 | 8/11/10 [Insert page number where the document begins]
Section 36.0 | Stage II Vapor Recovery | 9/11/08 | 8/11/10 [Insert page number where the document begins]
Section 37.0 | Graphic Arts Systems | 9/11/08 | 8/11/10 [Insert page number where the document begins]
Section 38.0 | Petroleum Solvent Dry Cleaners | 9/11/08 | 8/11/10 [Insert page number where the document begins]
Section 39 | [Reserved] | 9/11/08 | 8/11/10 [Insert page number where the document begins]
Section 40.0 | Leaks from Synthetic Organic Chemical, Polymer, and Resin Manufacturing Equipment | 9/11/08 | 8/11/10 [Insert page number where the document begins]
Section 41.0 | Manufacture of High-Density Polyethylene, Polypropylene and Polystyrene Resins | 9/11/08 | 8/11/10 [Insert page number where the document begins]
Section 42.0 | Air Oxidation Processes in the Synthetic Organic Chemical Manufacturing Industry | 9/11/08 | 8/11/10 [Insert page number where the document begins]
Section 43.0 | Bulk Gasoline Marine Tank Vessel Loading Facilities | 9/11/08 | 8/11/10 [Insert page number where the document begins]
Section 44.0 | Batch Processing Operations | 9/11/08 | 8/11/10 [Insert page number where the document begins]
Section 45.0 | Industrial Cleaning Solvents | 9/11/08 | 8/11/10 [Insert page number where the document begins]
Section 46.0 | Crude Oil Lightering Operations | 9/11/08 | 8/11/10 [Insert page number where the document begins]
Section 47.0 | Offset Lithographic Printing | 9/11/08 | 8/11/10 [Insert page number where the document begins]
Section 48.0 | Reactor Processes and Distillation Operations in the Synthetic Organic Chemical Manufacturing Industry | 9/11/08 | 8/11/10 [Insert page number where the document begins]
Section 49.0 | Control of Volatile Organic Compound Emissions from Volatile Organic Liquid Storage Vessels | 9/11/08 | 8/11/10 [Insert page number where the document begins]
Section 50.0 | Other Facilities that Emit Volatile Organic Compounds (VOCs) | 9/11/08 | 8/11/10 [Insert page number where the document begins] | The SIP effective date for former Sections 50(a)(5) and 50(b)(3) is 5/1/98.
Appendix A | Test Methods and Compliance Procedures: General Provisions | 9/11/08 | 8/11/10 [Insert page number where the document begins]
Appendix B | Test Methods and Compliance Procedures: Determining the Volatile Organic Compound (VOC) Content of Coatings and Inks | 9/11/08 | 8/11/10 [Insert page number where the document begins]
Appendix C | Test Methods and Compliance Procedures: Alternative Compliance Methods for Surface Coating | 9/11/08 | 8/11/10 [Insert page number where the document begins]
Appendix D | Test Methods and Compliance Procedures: Emission Capture and Destruction or Removal Efficiency and Monitoring Requirements | 9/11/08 | 8/11/10 [Insert page number where the document begins]
Appendix E | Test Methods and Compliance Procedures: Determining the Destruction or Removal Efficiency of a Control Device | 9/11/08 | 8/11/10 [Insert page number where the document begins]
Appendix F | Test Methods and Compliance Procedures: Leak Detection Methods for Volatile Organic Compounds (VOCs) | 9/11/08 | 8/11/10 [Insert page number where the document begins]
Appendix G | Performance Specifications for Continuous Emissions Monitoring of Total Hydrocarbons | 9/11/08 | 8/11/10 [Insert page number where the document begins]
Appendix H | Quality Control Procedures for Continuous Emission Monitoring Systems (CEMS) | 9/11/08 | 8/11/10 [Insert page number where the document begins]
Appendix I | Method to Determine Length of Rolling Period for Liquid-Liquid Material Balance Method | 9/11/08 | 8/11/10 [Insert page number where the document begins]
Appendices J, J1, J2 and J3 | [Reserved] | 9/11/08 | 8/11/10 [Insert page number where the document begins]
Appendix K | Emission Estimation Methodologies | 9/11/08 | 8/11/10 [Insert page number where the document begins]
Appendix L | Method to Determine Total Organic Carbon for Offset Lithographic Solutions | 9/11/08 | 8/11/10 [Insert page number where the document begins]
Appendix M | Test Method for Determining the Performance of Alternative Cleaning Fluids | 9/11/08 | 8/11/10 [Insert page number where the document begins]
1125 Requirements for Preconstruction Review
Section 1.0 | General Provisions | 9/11/08 | 8/11/10 [Insert page number where the document begins] | In section 1.9, the previous SIP-approved baseline dates for sulfur dioxide, particulate matter, and nitrogen dioxide in the definition of “Baseline Date” remain part of the SIP.
Section 2.0 | Emission Offset Provisions (EOP) | 9/11/08 | 8/11/10 [Insert page number where the document begins]
Section 3.0 | Prevention of Significant Deterioration of Air Quality | 9/11/08 | 8/11/10 [Insert page number where the document begins] | Previous SIP-approved revisions to Section 3.1 for nitrogen dioxide increments and Section 3.9A (now designated as Section 3.10.1) for air quality models remain part of the SIP.
1126 Motor Vehicle Emissions Inspection Program
Section 1.0 | Applicability and General Provisions | 9/11/08 | 8/11/10 [Insert page number where the document begins] | Regulation 1126 provisions apply to Sussex County only, effective November 1, 1999.
Section 2.0 | Definitions | 9/11/08 | 8/11/10 [Insert page number where the document begins]
Section 3.0 | Registration Requirement | 9/11/08 | 8/11/10 [Insert page number where the document begins]
Section 4.0 | Exemptions | 9/11/08 | 8/11/10 [Insert page number where the document begins]
Section 5.0 | Enforcement | 9/11/08 | 8/11/10 [Insert page number where the document begins]
Section 6.0 | Compliance, Waivers, Extensions of Time | 9/11/08 | 8/11/10 [Insert page number where the document begins]
Section 7.0 | Inspection Facility Requirements | 9/11/08 | 8/11/10 [Insert page number where the document begins]
Section 8.0 | Certification of Motor Vehicle Officers | 9/11/08 | 8/11/10 [Insert page number where the document begins]
Section 9.0 | Calibration and Test Procedures and Approved Equipment | 9/11/08 | 8/11/10 [Insert page number where the document begins]
Technical Memorandum 1 | Delaware Division of Motor Vehicles Vehicle Exhaust Emissions Test | 9/11/08 | 8/11/10 [Insert page number where the document begins]
Technical Memorandum 2 | (Motor Vehicle Inspection and Maintenance Program Emission Limit Determination) | 9/11/08 | 8/11/10 [Insert page number where the document begins]
1127 Stack Heights
Section 1.0 | General Provisions | 9/11/08 | 8/11/10 [Insert page number where the document begins]
Section 2.0 | Definitions Specific to this | 9/11/08 | 8/11/10 [Insert page number where the document begins]
Section 3.0 | Requirements for Existing and New Sources | 9/11/08 | 8/11/10 [Insert page number where the document begins]
Section 4.0 | Public Notification | 9/11/08 | 8/11/10 [Insert page number where the document begins]
Regulation No. 31 Low Enhanced Inspection and Maintenance Program
Section 1 | Applicability | 10/11/01 | 11/27/03 68 FR 66343
Section 2 | Low Enhanced I/M Performance Standard | 10/11/01 | 1/27/03 68 FR 66343
Section 3 | Network Type and Program Evaluation | 10/11/01 | 11/27/03 68 FR 66343
Section 4 | Test Frequency and Convenience | 6/11/99 | 9/30/99 64 FR 52657
Section 5 | Vehicle Coverage | 10/11/01 | 1/27/03 68 FR 66343
Section 6 | Test Procedures and Standards | 10/11/01 | 11/27/03 68 FR 66343
Section 7 | Waivers and Compliance via Diagnostic Inspection | 10/11/01 | 11/27/03 68 FR 66343
Section 8 | Motorist Compliance Enforcement | 10/11/01 | 11/27/03 68 FR 66343
Section 9 | Enforcement Against Operators and Motor Vehicle Technicians | 10/11/01 | 11/27/03 68 FR 66343
Section 10 | Improving Repair Effectiveness | 8/13/98 | 9/30/99 64 FR 52657
Section 11 | Compliance with Recall Notices | 8/13/98 | 9/30/99 64 FR 52657
Section 12 | On-Road Testing | 8/13/98 | 9/30/99 64 FR 52657
Section 13 | Implementation Deadlines | 10/11/01 | 11/27/03 68 FR 66343
Appendix 1(d) | Commitment to Extend the I/M Program to the Attainment Date From Secretary Tulou to EPA Administrator W. Michael McCabe | 8/13/98 | 9/30/99 64 FR 52657
Appendix 3(a)(7) | Exhaust Emission Limits According to Model Year | 8/13/98 | 9/30/99 64 FR 52657
Appendix 3(c)(2) | VMASTM Test Procedure | 6/11/99 | 9/30/99 64 FR 52657
Appendix 4(a) | Sections from Delaware Criminal and Traffic Law Manual | 8/13/98 | 9/30/99 64 FR 52657
Appendix 5(a) | Division of Motor Vehicles Policy on Out of State Renewals | 8/13/98 | 9/30/99 64 FR 52657
Appendix 5(f) | New Model Year Clean Screen | 10/11/01 | 11/27/03 68 FR 66343
Appendix 6(a) | Idle Test Procedure | 10/11/01 | 1/27/03 68 FR 66343
Appendix 6(a)(5) | Vehicle Emission Repair Report Form | 8/13/98 | 9/30/99 64 FR 52657
Appendix 6(a)(8) | Evaporative System Integrity (Pressure) Test | 10/11/01 | 11/27/03 68 FR 66343
Appendix 6(a)(9) | On-board Diagnostic Test Procedure OBD II Test Procedure | 10/11/01 | 11/27/03 68 FR 66343
Appendix 7(a) | Emission Repair Technician Certification Process | 8/13/98 | 9/30/99 64 FR 52657
Appendix 8(a) | Registration Denial System Requirements Definition | 8/13/98 | 9/30/99 64 FR 52657
Appendix 9(a) | Enforcement Against Operators and Inspectors | 10/11/01 | 11/27/03 68 FR 66343
1132 Transportation Conformity
Introductory Paragraph | [No Title] | 9/11/08 | 8/11/10 [Insert page number where the document begins] | Replaces the Prologue.
Section 1.0 | Purpose | 11/11/07 | 4/22/08 73 FR 21538
Section 2.0 | Definitions | 9/11/08 | 8/11/10 [Insert page number where the document begins]
Section 3.0 | Consultation | 9/11/08 | 8/11/10 [Insert page number where the document begins]
Section 4.0 | Written Commitments For Control and Mitigation Measures | 9/11/08 | 8/11/10 [Insert page number where the document begins]
1135 Conformity of General Federal Actions to the State Implementation Plans
Section 1.0 | Purpose | 9/11/08 | 8/11/10 [Insert page number where the document begins]
Section 2.0 | Definitions | 9/11/08 | 8/11/10 [Insert page number where the document begins]
Section 3.0 | Applicability | 9/11/08 | 8/11/10 [Insert page number where the document begins]
Section 4.0 | Conformity Analysis | 9/11/08 | 8/11/10 [Insert page number where the document begins]
Section 5.0 | Reporting Requirements | 9/11/08 | 8/11/10 [Insert page number where the document begins]
Section 6.0 | Public Participation and Consultation | 9/11/08 | 8/11/10 [Insert page number where the document begins]
Section 7.0 | Frequency of Conformity Determinations | 9/11/08 | 8/11/10 [Insert page number where the document begins]
Section 8.0 | Criteria for Determining Conformity of General Federal Actions | 9/11/08 | 8/11/10 [Insert page number where the document begins]
Section 9.0 | Procedures for Conformity Determinations of General Federal Actions | 9/11/08 | 8/11/10 [Insert page number where the document begins]
Section 10.0 | Mitigation of Air Quality Impacts | 9/11/08 | 8/11/10 [Insert page number where the document begins]
Section 11.0 | Savings Provision | 9/11/08 | 8/11/10 [Insert page number where the document begins]
Regulation No. 37 NOX Budget Program
Section 1 | General Provisions | 12/11/99 | 3/9/00 65 FR 12481
Section 2 | Applicability | 12/11/99 | 3/9/00 65 FR 12481
Section 3 | Definitions | 12/11/99 | 3/9/00 65 FR 12481
Section 4 | Allowance Allocation | 12/11/99 | 3/9/00 65 FR 12481
Section 5 | Permits | 12/11/99 | 3/9/00 65 FR 12481
Section 6 | Establishment of Compliance Accounts | 12/11/99 | 3/9/00 65 FR 12481
Section 7 | Establishment of General Accounts | 12/11/99 | 3/9/00 65 FR 12481
Section 8 | Opt In Provisions | 12/11/99 | 3/9/00 65 FR 12481
Section 9 | New Budget Source Provisions | 12/11/99 | 3/9/00 65 FR 12481
Section 10 | NOX Allowance Tracking System (NATS) | 12/11/99 | 3/9/00 65 FR 12481
Section 11 | Allowance Transfer | 12/11/99 | 3/9/00 65 FR 12481
Section 12 | Allowance Banking | 12/11/99 | 3/9/00 65 FR 12481
Section 13 | Emission Monitoring | 12/11/99 | 3/9/00 65 FR 12481
Section 14 | Recordkeeping | 12/11/99 | 3/9/00 65 FR 12481
Section 15 | Emissions Reporting | 12/11/99 | 3/9/00 65 FR 12481
Section 16 | End-of Season Reconciliation | 12/11/99 | 3/9/00 65 FR 12481
Section 17 | Compliance Certification | 12/11/99 | 3/9/00 65 FR 12481
Section 18 | Failure to Meet Compliance Requirements | 12/11/99 | 3/9/00 65 FR 12481
Section 19 | Program Audit | 12/11/99 | 3/9/00 65 FR 12481
Section 20 | Program Fees | 12/11/99 | 3/9/00 65 FR 12481
Appendix “AA” | NOX Budget Program | 12/11/99 | 3/9/00 65 FR 12481
1139 Nitrogen Oxides (NOX) Budget Trading Program
Section 1.0 | Purpose | 9/11/08 | 8/11/10 [Insert page number where the document begins]
Section 2.0 | Emission Limitation | 9/11/08 | 8/11/10 [Insert page number where the document begins]
Section 3.0 | Applicability | 9/11/08 | 8/11/10 [Insert page number where the document begins]
Section 4.0 | Definitions | 9/11/08 | 8/11/10 [Insert page number where the document begins]
Section 5.0 | General Provisions | 9/11/08 | 8/11/10 [Insert page number where the document begins]
Section 6.0 | NOX Authorized Account Representative for NOX Budget Sources | 9/11/08 | 8/11/10 [Insert page number where the document begins]
Section 7.0 | Permits | 9/11/08 | 8/11/10 [Insert page number where the document begins]
Section 8.0 | Monitoring and Reporting | 9/11/08 | 8/11/10 [Insert page number where the document begins]
Section 9.0 | NATS | 9/11/08 | 8/11/10 [Insert page number where the document begins]
Section 10.0 | NOX Allowance Transfers | 9/11/08 | 8/11/10 [Insert page number where the document begins]
Section 11.0 | Compliance Certification | 9/11/08 | 8/11/10 [Insert page number where the document begins]
Section 12.0 | End-of-Season Reconciliation | 9/11/08 | 8/11/10 [Insert page number where the document begins]
Section 13.0 | Failure to Meet Compliance Requirements | 9/11/08 | 8/11/10 [Insert page number where the document begins]
Section 14.0 | Individual Unit Opt-Ins | 9/11/08 | 8/11/10 [Insert page number where the document begins]
Section 15.0 | General Accounts | 9/11/08 | 8/11/10 [Insert page number where the document begins]
Appendix A | Allowance Allocations to NOX Budget Units under 3.1.1.1 and 3.1.1.2 of 7 DE Admin Code 1139 | 9/11/08 | 8/11/10 [Insert page number where the document begins]
Appendix B | 7 DE Admin Code 1137-7 DE Admin Code 1139 Program Transition | 9/11/08 | 8/11/10 [Insert page number where the document begins]
1140 Delaware's National Low Emission Vehicle (NLEV)
Section 1.0 | Applicability | 9/11/08 | 8/11/10 [Insert page number where the document begins]
Section 2.0 | Definitions | 9/11/08 | 8/11/10 [Insert page number where the document begins]
Section 3.0 | Program Participation | 9/11/08 | 8/11/10 [Insert page number where the document begins]
1141 Limiting Emissions of Volatile Organic Compounds from Consumer and Commercial Products
Section 1.0 | Architectural and Industrial Maintenance Coatings | 9/11/08 | 8/11/10 [Insert page number where the document begins]
Section 2.0 | Consumer Products | 1/11/02 | 11/22/02 67 FR 70315
Section 3.0 | Portable Fuel Containers | 9/11/08 | 8/11/10 [Insert page number where the document begins]
1142 Specific Emission Control Requirements
Section 1.0 | Control of NOX Emissions from Industrial Boilers | 9/11/08 | 8/11/10 [Insert page number where the document begins]
Section 2.0 | Control of NOX Emissions from Industrial Boilers and Process Heaters at Petroleum Refineries | 11/11/09 | 6/4/10 75 FR 31711 | New regulation. The SIP effective date is 7/6/10.
1144 Control of Stationary Generator Emissions
Section 1.0 | General | 9/11/08 | 8/11/10 [Insert page number where the document begins]
Section 2.0 | Definitions | 9/11/08 | 8/11/10 [Insert page number where the document begins]
Section 3.0 | Emissions | 9/11/08 | 8/11/10 [Insert page number where the document begins]
Section 4.0 | Operating Requirements | 1/11/06 | 4/29/08 73 FR 23101
Section 5.0 | Fuel Requirements | 1/11/06 | 4/29/08 73 FR 23101
Section 6.0 | Record Keeping and Reporting | 1/11/06 | 4/29/08 73 FR 23101
Section 7.0 | Emissions Certification, Compliance, and Enforcement | 9/11/08 | 8/11/10 [Insert page number where the document begins]
Section 8.0 | Credit for Concurrent Emissions Reductions | 9/11/08 | 8/11/10 [Insert page number where the document begins]
Section 9.0 | DVFA Member Companies | 1/11/06 | 4/29/08 73 FR 23101
Regulation 1145 Excessive Idling of Heavy Duty Vehicles
Section 1.0 | Applicability | 9/11/08 | 8/11/10 [Insert page number where the document begins]
Section 2.0 | Definitions | 9/11/08 | 8/11/10 [Insert page number where the document begins]
Section 3.0 | Severability | 9/11/08 | 8/11/10 [Insert page number where the document begins]
Section 4.0 | Operational Requirements for Heavy Duty Motor Vehicles | 9/11/08 | 8/11/10 [Insert page number where the document begins]
Section 5.0 | Exemptions | 9/11/08 | 8/11/10 [Insert page number where the document begins]
Section 6.0 | Enforcement and Penalty | 9/11/08 | 8/11/10 [Insert page number where the document begins]
1146 Electric Generating Unit (EGU) Multi-Pollutant Regulation
Section 1.0 | Preamble | 9/11/08 | 8/11/10 [Insert page number where the document begins] | Except for provisions pertaining to mercury emissions.
Section 2.0 | Applicability | 12/11/06 | 8/28/08 73 FR 50723 | Except for provisions pertaining to mercury emissions.
Section 3.0 | Definitions | 9/11/08 | 8/11/10 [Insert page number where the document begins] | Except for provisions pertaining to mercury emissions.
Section 4.0 | NOX Emissions Limitations | 9/11/08 | 8/11/10 [Insert page number where the document begins]
Section 5.0 | SO2 Emissions Limitations | 9/11/08 | 8/11/10 [Insert page number where the document begins]
Section 7.0 | Recordkeeping and Reporting | 9/11/08 | 8/11/10 [Insert page number where the document begins] | Except for provisions pertaining to mercury emissions.
Section 8.0 | Compliance Plan | 9/11/08 | 8/11/10 [Insert page number where the document begins] | Except for provisions pertaining to mercury emissions.
Section 9.0 | Penalties | 9/11/08 | 8/11/10 [Insert page number where the document begins] | Except for provisions pertaining to mercury emissions.
Table 4-1 (Formerly Table I) | Annual NOX Mass Emissions Limits | 9/11/08 | 8/11/10 [Insert page number where the document begins]
Table 5-1 (Formerly Table II) | Annual SO2 Mass Emissions Limits | 9/11/08 10/19/09 | 3/16/10 75 FR 12449 | Modified emissions limit for Conectiv Edge Moor Unit 5.
1148 Control of Stationary Combustion Turbine Electric Generating Unit Emissions
Section 1.0 | Purpose | 7/11/07 | 11/10/08 73 FR 66554
Section 2.0 | Applicability | 9/11/08 | 8/11/10 [Insert page number where the document begins]
Section 3.0 | Definitions | 9/11/08 | 8/11/10 [Insert page number where the document begins]
Section 4.0 | NOX Emissions Limitations | 9/11/08 | 8/11/10 [Insert page number where the document begins]
Section 5.0 | Monitoring and Reporting | 9/11/08 | 8/11/10 [Insert page number where the document begins]
Section 6.0 | Recordkeeping | 7/11/07 | 11/10/08 73 FR 66554
Section 7.0 | Penalties | 9/11/08 | 8/11/10 [Insert page number where the document begins]

* * * * *

[FR Doc. 2010-19571 Filed 8-10-10; 8:45 am]

BILLING CODE 6560-50-P